DEPARTMENT OF HEALTH AND HUMAN SERVICES

Health Resources and Services Administration

Agency Information Collection Activities; Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Survey of Eligible Users of the National Practitioner Data Bank.

OMB No. 0915-xxxx—New.

Abstract: The Health Resources and Services Administration (HRSA) plans to conduct a survey of eligible users of the National Practitioner Data Bank (NPDB). The respondent universe is comprised of both users and non-users that are eligible to report to the NPDB, query the NPDB, or both, between January 1, 2010, and December 31, 2012. The survey aims to assess the overall satisfaction of NPDB users with regard to reporting and querying processes. Additionally, the survey will evaluate the effectiveness of the NPDB as an information source and measure user perception of the utility of NPDB information when hiring, licensing, credentialing, and monitoring health care practitioners. The survey will also collect information from eligible non-users of the NPDB to assess what can be done to motivate eligible non-users to register, access, and use the information available in the NPDB.

The survey will be administered to three populations of interest: Eligible users, eligible non-users, and self-queriers. First, eligible users of the NPDB include entities who queried the NPDB, reported to the NPDB, or both, during the defined time frame. Entities that used an authorized agent to fulfill their reporting or querying requirements will be considered eligible users. Second, eligible non-users of the NPDB are those that: (i) Never registered with the NPDB; (ii) registered prior to 2010 and were not currently registered during the survey time frame; and (iii) were registered but not using the NPDB directly or through an authorized agent. Third, those that self-query the NPDB include health care practitioners that submitted a query during the specified time frame to either verify their own status or to provide a copy of the results to a third party. The majority of self-queriers are health care practitioners; however, this population can include medical service providers and medical suppliers.

Eligible NPDB users and eligible non-users who were previously registered or were currently registered but not using the NPDB will be asked to complete a web-based survey. Eligible non-users that were never registered with the NPDB will be contacted via telephone to obtain email information so that they will be able to complete a web-based survey. The survey will collect additional information from users that receive a matched response. A matched response occurs when an eligible user queries the NPDB and, in turn, receives a response that the subject of the query has a report in the NPDB. This survey is a follow-up to the NPDB users and non-users survey of 2008. Data gathered from the survey will be compared with previous surveys results. This survey will provide HRSA with the information necessary to improve the usability and effectiveness of the NPDB.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Respondents type | Respondents description | Number of respondents | Number of responses per respondent | Total responses | Hours per response | Total burden (hours)
NPDB Users | Reporters Queriers (non-matched responses) | 11,832 | 1 | 11,832 | .333 | 3,940
| Queriers (matched responses) | 1,768 | 1 | 1,768 | .383 | 677
Non-Users | Ever registered | 1,200 | 1 | 1,200 | .133 | 160
| Never-registered | 400 | 1 | 400 | .10 | 40
NPDB Self Queriers | Non-matched responses | 1,080 | 1 | 1,080 | .10 | 108
| Matched | 120 | 1 | 120 | .216 | 26
Total |  | 16,400 |  | 16,400 |  | 4,951

Dated: July 3, 2013.
Bahar Niakan,
Director, Division of Policy and Information Coordination.

[FR Doc. 2013-16600 Filed 7-9-13; 8:45 am]

BILLING CODE 4165-15-P